DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Statutory Invention Registration.

Form Number(s): PTO/SB/94.

Agency Approval Number: 0651-0036.

Type of Request: Revision of a currently approved collection.

Burden: 29 hours annually.

Number of Respondents: 73 responses per year.

Avg. Hours Per Response: The USPTO estimates that it will take approximately 24 minutes (0.4 hours) to submit a Statutory Invention Registration request or petition. This includes time to gather the necessary information, prepare the documents, and submit the completed request.

Needs and Uses: Under 35 U.S.C. 157 and 37 CFR 1.293-1.297, the USPTO is authorized to publish a statutory invention registration containing the specifications and drawings of a regularly filed application for a patent without examination, provided the applicant meets all the requirements for printing, waives the right to receive a patent on the invention within a certain period of time prescribed by the USPTO, and pays all application, publication, and other processing fees. This collection includes information needed by the USPTO to review and approve or deny such requests. The applicant may also petition the USPTO to review final refusal to publish or to withdraw a request to publish a statutory invention registration. The USPTO is submitting this collection in support of a proposed rulemaking “Changes to Support Implementation of the USPTO 21st Century Strategic Plan” (RIN 0651-AB64), which would support the use of electronic signatures on documents and increase the filing fees for the petitions that are included in this collection.

Affected Public: Individuals or households, business or other for-profits, not-for-profit institutions, farms, the Federal Government, and state, local or tribal governments.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, Data Administration Division, 703-308-7400, U.S. Patent and Trademark Office, P.O. Box 1450, Alexandria, VA 22313, Attn: CPK 3 Suite 310; or by e-mail at susan.brown@uspto.gov.

Written comments and recommendations for the proposed information collection should be sent on or before October 9, 2003 to David Rostker, OMB Desk Officer, Room 10202, New Executive Office Building, Washington, DC 20503.

Dated: September 2, 2003.
Susan K. Brown,
Records Officer, USPTO, Office of the Chief Information Officer, Office of Data Architecture and Services, Data Administration Division.

[FR Doc. 03-22878 Filed 9-8-03; 8:45 am]

BILLING CODE 3510-16-P